DEPARTMENT OF TRANSPORTATION

Federal Aviation Administration

14 CFR Part 73

[Docket No. FAA-2021-0650; Airspace Docket No. 21-AWP-11]

RIN 2120-AA66

Proposed Establishment of Restricted Area R-2511; Trona, CA

AGENCY: Federal Aviation Administration (FAA), Department of Transportation (DOT).

ACTION: Notice of proposed rulemaking (NPRM).

SUMMARY: This action proposes to establish restricted area R-2511 in the vicinity of Trona, CA in support of the Naval Air Warfare Center Weapons Division (NAWCWD) at China Lake, CA. The proposed restricted area is necessary to segregate the testing and evaluation of hazardous weapons systems, and other unproven aviation platforms in the early development cycle from non-participating aircraft.

DATES: Comments must be received on or before December 2, 2021.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket No. FAA-2021-0650; Airspace Docket No. 21-AWP-11 at the beginning of your comments. You may also submit comments through the internet at https://www.regulations.gov.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted area airspace in the vicinity of Trona, CA to contain activities deemed hazardous to non-participating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0650; Airspace Docket No. 21-AWP-11) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0650; Airspace Docket No. 21-AWP-11.” The postcard will be date/time stamped and returned to the commenter.

The FAA will consider all communications received on or before the specified comment closing date before taking action on the proposed rule. The FAA may change the proposal contained in this action in light of comments received. All comments submitted will be available for examination in the public docket both before and after the comment closing date. A report summarizing each substantive public contact with FAA personnel concerned with this rulemaking will be filed in the docket.

Availability of NPRM

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 2200 South 216th St., Des Moines, WA 98198.

Background

The NAWCWD is requesting R-2511 for free flight, weapons systems transitioning from launch areas within R-2505 to target areas within R-2524, and from launch areas within R-2524 to target areas within R-2505. Restricted area R-2511 would replace an existing Controlled Firing Area (CFA) that no longer meets NAWCWD's operational requirements.

The NAWCWD has conducted operations within the CFA since 1995 with an excellent safety record and no history of operational incidents. However, in the future, the NAWCWD requires a space in which it may launch weapons that will have varying flight altitudes. The weapons will either climb to establish a look-down aspect or descend on their path toward their target. Additionally, the weapons' altitude is expected to vary some, based on the shooter aircraft's launch tolerances and day-of weather conditions. The FAA typically only considers CFAs when necessary to accommodate activities that are capable of being immediately suspended as the CFA user is required to immediately cease any hazardous activity upon observation or notification that a non-participating aircraft is approaching the area. As such, the CFA does not practically accommodate NAWCWD's needs. Accordingly, a restricted area is being pursued.

The FAA completed an aeronautical study in April 2021. The study focused on potential impacts to the National Airspace System (NAS) and its users. The FAA utilized the Performance Data Analysis and Reporting System (PDARS) to study historical traffic and flight track data to show volume, location, and type of traffic that utilized the proposed volume of airspace. That data revealed that there would be little to no impact to nearby airports, or non-participating traffic transitioning the proposed Special Use Airspace.

The Proposal

The FAA is proposing an amendment to 14 CFR part 73 to establish restricted area R-2511 in the vicinity of Trona, CA. The FAA is proposing this action at the request of NAWCWD at China Lake, CA. The full legal description is in “The Proposed Amendment” section of this NPRM.

R-2511: The FAA would establish restricted area R-2511 utilizing the current boundaries of the existing CFA. The altitudes would be from 6,000 feet mean sea level (MSL), to but not including 20,000 feet MSL. R-2511 would be used no more than 36 times per year, between the hours of 0700-1700 local time, Monday-Friday, and activated by NOTAM at least 7 days in advance. Each day would consist of no more than two 2-hour blocks when activated.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.25 California.

2. Section 73.25 is amended by adding the entry for R-2511 Trona, CA to read as follows:

* * * * *

R-2511 Trona, CA [New]

Boundaries. Beginning at lat. 35°37′30″ N; long. 117°35′33″ W; to lat. 35°40′30″ N; long. 117°25′03″ W; to lat. 35°36′00″ N; long. 117°16′55″ W; to lat. 35°36′00″ N; long. 117°26′03″ W; to lat. 35°27′40″ N; long. 117°26′03″ W; to the point of beginning.

Designated Altitudes. 6,000 feet MSL, to but not including, FL 200.

Time of Designation. Intermittent, 0700-1700 local time, Monday-Friday, by NOTAM 7 days in advance.

Controlling Agency. FAA, Joshua Control Facility, Edwards Air Force Base, CA.

Using Agency. Naval Air Warfare Center Weapons Division. China Lake, CA.

* * * * *

Issued in Washington, DC, on September 30, 2021.
Michael R. Beckles,
Acting Manager, Rules and Regulations Group.

[FR Doc. 2021-21860 Filed 10-15-21; 8:45 am]

BILLING CODE 4910-13-P